DEPARTMENT OF HEALTH AND HUMAN SERVICES

National Institutes of Health

Proposed Collection; Comment Request; Testing Successful Health Communications Surrounding Aging-Related Issues From the National Institute on Aging (NIA)

SUMMARY: In compliance with the requirement of Section 3506(c)(2)(A) of the Paperwork Reduction Act of 1995, for opportunity for public comment on proposed data collection projects, the National Institute on Aging, the National Institutes of Health (NIH) will publish periodic summaries of proposed projects to be submitted to the Office of Management and Budget (OMB) for review and approval.

Proposed Collection: Title: Testing successful health communications surrounding aging-related issues from the National Institute on Aging (NIA). Type of Information Collection Request: New. Need and Use of Information Collection: This study will support NIA's mission “to communicate information about aging and advances in research on aging to the scientific community, health care providers, and the public.” The primary objectives of this study are to:

• Assess audiences' trusted/preferred sources for information, knowledge, attitudes, behaviors, and other characteristics for the planning/development of health messages and communications strategies;

• Pre-test health messages and outreach strategies while they are in developmental form to assess audience response, including their likes and dislikes.

NIA's Office of Communications and Public liaison will collect this information through formative qualitative research with its key audiences—older people, caregivers, and health professionals. Methods will include focus groups, individual interviews, self-administered questionnaires, and website surveys. The information will be used to (1) Develop and revise health information resources and outreach strategies to maximize their effectiveness; (2) determine new topic areas to explore for future NIA publications; and (3) identify new ways to support the health information needs of older adults and people who serve older adults. NIA is requesting a generic clearance for a range of research data collection procedures to ensure that they successfully develop and disseminate effective health communications on aging-related issues. Frequency of Response: On occasion. Affected Public: Older people, caregivers, and health professionals (physicians and non-physicians). Type of Respondents: Older people, caregivers, and health professionals (physicians and non-physicians). The annual reporting burden is as follows: Estimated Number of Respondents: 630. Estimated Number of Responses per Respondent: 1. Average Burden Hours Per Response: 0.37. Estimated Total Annual Burden Hours Requested: 234. The annualized cost to respondents is estimated at: $5,680. There are no Capital Costs to report. There are no Operating or Maintenance Costs to report.

Type of respondents | Estimated number of respondents | Estimated number of responses per respondent | Average burden hours per response | Estimated total annual burden hours requested
Older adults | 260 | 1 | .37 | 97
Non-physician health professionals and caregivers | 310 | 1 | .35 | 107
Physicians | 60 | 1 | .5 | 30
Total |  |  |  | 234

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact: Megan Homer, Writer/Editor, Office of Communications and Public Liaison, NIH, Building 31C Room 5C27, 9000 Rockville Pike, Bethesda, MD 20892, or call non-toll-free number 301-496-1752 or E-mail your request, including your address to: homerm@mail.nih.gov.

Comments Due Date: Comments regarding this information collection are best assured of having their full effect if received within 60 days of the date of this publication.

Dated: September 22, 2010.
Lynn Hellinger,
Director of Management, National Institutes of Health.

[FR Doc. 2010-24277 Filed 9-27-10; 8:45 am]

BILLING CODE 4140-01-P